DEPARTMENT OF ENERGY

Federal Energy Regulatory Commission

Combined Notice of Filings #1

June 12, 2007.

Take notice that the Commission received the following electric rate filings:

Docket Numbers: ER01-3001-017.

Applicants: New York Independent System Operator, Inc.

Description: New York Independent System Operator, Inc. submits its Summer Compliance Report on Demand Response Programs and New Generation Projects.

Filed Date: 6/1/2007.

Accession Number: 20070601-5059.

Comment Date: 5 p.m. Eastern Time on Friday, June 22, 2007.

Docket Numbers: ER06-1421-000.

Applicants: The Clearing Corporation.

Description: The Clearing Corporation submits a Notice of Withdrawal of its 8/29/06 Application for Market Based Rate Authority.

Filed Date: 6/5/2007.

Accession Number: 20070608-0005.

Comment Date: 5 p.m. Eastern Time on Tuesday, June 26, 2007.

Docket Numbers: ER07-423-002.

Applicants: South Carolina Electric & Gas Company.

Description: South Carolina Electric & Gas Company submits its compliance Electric Refund Report.

Filed Date: 6/8/2007.

Accession Number: 20070608-5020.

Comment Date: 5 p.m. Eastern Time on Friday, June 29, 2007.

Docket Numbers: ER07-613-003.

Applicants: California Independent System Operator Corporation, Inc.

Description: California Independent System Operator Corporation submits its Compliance Filing in accordance with FERC's May 8, 2007 Order.

Filed Date: 6/7/2007.

Accession Number: 20070611-0074.

Comment Date: 5 p.m. Eastern Time on Thursday, June 28, 2007.

Docket Numbers: ER07-642-001.

Applicants: Southern Company Services, Inc.

Description: Southern Company Services, Inc agent for Alabama Power Company et al submits responses to FERC's Staff's Deficiency Letter.

Filed Date: 5/29/2007.

Accession Number: 20070531-0092.

Comment Date: 5 p.m. Eastern Time on Friday, June 15, 2007.

Docket Numbers: ER07-734-001.

Applicants: Southwest Power Pool, Inc.

Description: Southwest Power Pool Inc submits an executed Meter Agent Services Agreement between Kansas Electric Power Cooperative Inc & the Empire District Electric Company.

Filed Date: 6/7/2007.

Accession Number: 20070611-0073.

Comment Date: 5 p.m. Eastern Time on Thursday, June 28, 2007.

Docket Numbers: ER07-736-001.

Applicants: Southwest Power Pool, Inc.

Description: Southwest Power Pool, Inc submits the executed Firm Point-to-Point Transmission Service Agreement with the City of Independence, Missouri.

Filed Date: 6/7/2007.

Accession Number: 20070611-0075.

Comment Date: 5 p.m. Eastern Time on Thursday, June 28, 2007.

Docket Numbers: ER07-749-001.

Applicants: Dyon, LLC.

Description: Dyon, LLC submits an amendment to its application for market-based rate authority and accompany electric power sales tariff originally submitted on 4/13/07 in compliance with Order 614 et al.

Filed Date: 6/5/2007.

Accession Number: 20070607-0202.

Comment Date: 5 p.m. Eastern Time on Tuesday, June 26, 2007.

Docket Numbers: ER07-752-001; ER07-753-001; ER07-754-001; ER07-755-001; ER07-756-001.

Applicants: Westar Energy, Inc.

Description: Westar Energy, Inc submits First Revised Sheets 2 of its Supplemental Generation Agreements in compliance with the Commission's 5/22/07 letter order.

Filed Date: 6/6/2007.

Accession Number: 20070608-0095.

Comment Date: 5 p.m. Eastern Time on Wednesday, June 27, 2007.

Docket Numbers: ER07-930-001.

Applicants: AER NY-Gen, LLC.

Description: AER NY-Gen LLC submits Exhibit A—Substitute Original Sheet 1 to FERC Electric Tariff, Second Revised Volume 1.

Filed Date: 6/6/2007.

Accession Number: 20070607-0203.

Comment Date: 5 p.m. Eastern Time on Wednesday, June 27, 2007.

Docket Numbers: ER07-988-000.

Applicants: ISO New England Inc.; Hydro-Quebec TransEnergie.

Description: ISO New England, Inc et al submits the Final English-French translated version of the Highgate Interconnection Operators Agreement relating to the Highgate Interconnection Facilities.

Filed Date: 5/31/2007.

Accession Number: 20070605-0183.

Comment Date: 5 p.m. Eastern Time on Thursday, June 21, 2007.

Docket Numbers: ER07-1015-000.

Applicants: Southwest Power Pool, Inc.

Description: Southwest Power Pool, Inc submits an executed service agreement for firm point-to-point transmission service with Southwest Public Service Co.

Filed Date: 6/7/2007.

Accession Number: 20070611-0078.

Comment Date: 5 p.m. Eastern Time on Thursday, June 28, 2007.

Docket Numbers: ER07-1016-000.

Applicants: Southern California Edison Company.

Description: Southern California Edison Co submits a Letter Agreement with Ocotillo Development LLC.

Filed Date: 6/7/2007.

Accession Number: 20070611-0077.

Comment Date: 5 p.m. Eastern Time on Thursday, June 28, 2007.

Docket Numbers: ER07-1017-000.

Applicants: Public Service Company of New Mexico.

Description: Public Service Co of New Mexico submits an Operation and Maintenance Agreement for Aztec Substation with Western Area Power Administration.

Filed Date: 6/8/2007.

Accession Number: 20070611-0076.

Comment Date: 5 p.m. Eastern Time on Friday, June 29, 2007.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-11880 Filed 6-19-07; 8:45 am]

BILLING CODE 6717-01-P